DEPARTMENT OF THE INTERIOR

National Park Service

[NPS-PWR-PWRO-17253; PX.PD077160I.00.4]

Draft Environmental Impact Statement for Alcatraz Ferry Embarkation Plan, San Francisco County, California.

AGENCY: National Park Service, Interior.

ACTION: Notice of availability.

SUMMARY: The National Park Service (NPS) has prepared a Draft Environmental Impact Statement (DEIS) for the Alcatraz Ferry Embarkation project. The project would establish a new, long-term ferry embarkation site for passenger service between the northern San Francisco waterfront and Alcatraz Island. It would also establish occasional special ferry service between the selected Alcatraz ferry embarkation site and the existing Fort Baker pier, as well as between Fort Mason and other destinations in San Francisco Bay.

DATES: All comments must be postmarked or transmitted not later than 90 days from the date of publication in the Federal Register of the Environmental Protection Agency's notice of filing and release of the DEIS. Upon confirmation of this date, we will notify all entities on the project mailing list, and public announcements about the DEIS review period will be posted on the project Web site (http://parkplanning.nps.gov/ALCAembarkation) and distributed via local and regional press media.

FOR FURTHER INFORMATION CONTACT: Please contact the Golden Gate National Recreation Area Planning Division at (415) 561-4930 or goga_planning@nps.gov.

SUPPLEMENTARY INFORMATION: The purpose and need for the project is driven by the following factors: (1) Alcatraz Island ferry service has been subject to location changes every 10 years, which has led to visitor confusion, community concerns, and inconsistency in visitor support services. The site and associated connections should be a consistent feature for visitors to Golden Gate National Recreation Area (GGNRA). (2) The ability to make improvements at the existing site is constrained by lease provisions between the Port of San Francisco and the concessioner. The site should allow for efficiency in making facility improvements when necessary and for consistency in projecting facility costs. (3) Condition of existing facilities constrains and negatively affects NPS and the concessioner's abilities to create a quality visitor experience. The site and associated facilities should serve as a gateway to GGNRA, reflecting the NPS's identity and providing a quality experience for recreational visitors. (4) The current facility has insufficient space to appropriately orient visitors to Alcatraz Island or provide information to the many visitors who are unable to visit the island. The site should provide the space, circulation, and interpretive materials to appropriately and effectively orient recreational visitors to Alcatraz Island and GGNRA. (5) There is currently very limited opportunity to provide cross-bay ferry service to other GGNRA areas.

Key project objectives include: (1) Establish a long-term (50 years or more) primary location that is economically feasible and sustainable, and enables substantial reinvestment in Alcatraz Island and other park facilities and visitor programs; (2) provide visitor access to Alcatraz Island that is compatible with nearby land uses, including neighborhoods, businesses, and transportation services; (3) accommodate the critical facilities and programs needed for the safety and comfort of visitors and staff, and provide for efficient ferry operations; (4) locate within a reasonable crossing time from Alcatraz Island and meet specific basic program element requirements for logistics; (5) provide an identifiable area for a quality welcome, orientation, and interpretation of the natural, cultural, scenic, and recreational resources of Alcatraz Island, other GGNRA system parklands, and the larger national park system; and (6) provide facilities for expanded ferry service to accommodate existing and future visitor demand for travel to Alcatraz Island and other GGNRA sites and NPS units.

Alternatives: The DEIS describes and analyzes the following four alternatives:

No Action Alternative: Ferry service to Alcatraz Island would continue from Pier 31½, controlled by the Port of San Francisco, with no changes to management or site operations and infrastructure. This alternative serves as the environmental baseline from which potential effects of the three “action” alternatives were compared.

Pier 31½ Alternative: Retrofit existing structures (parts of piers 31, 33 and associated bulkhead buildings) and establish long-term ferry service and embarkation site operations at Pier 31½ along the Embarcadero. A third berth would be constructed to support ferry travel to other GGNRA sites. This has been determined to be the “environmentally preferred” alternative.

Pier 41 Alternative: Retrofit and expand existing structures and establish long-term ferry service and embarkation site operations at Pier 41, controlled by the Port of San Francisco in Fisherman's Wharf. A third berth would be constructed to support ferry travel to other GGNRA sites.

Pier 3 Alternative: Retrofit existing structures and establish a long-term embarkation site at Pier 3 in Fort Mason, a federal property managed by GGNRA. A third berth between Piers 1 and 2 would also be constructed.

All action alternatives analyzed in the DEIS would also provide the aforementioned occasional, special ferry service operated to/from Fort Baker and to/from Fort Mason. At this time, the “Preferred Alternative” has not been identified. Determination of which alternative is preferred will be informed by public comment on the DEIS and the outcome of ongoing discussions with the Port which may affect cost and logistics at the potential Port sites—Piers 31½ and 41. The “Preferred Alternative” will be identified in the Final EIS.

Public Involvement: The Notice of Intent to prepare an EIS was published in the Federal Register on June 1, 2012. Two public meetings were held; on June 26, 2012, at Fort Mason in San Francisco, and on June 28, 2012, in Sausalito. Both meetings presented information about the purpose, need, and objectives of the project and concepts for possible alternatives in an open-house format. The primary goal of these meetings was to solicit public input on the preliminary alternatives. A summary of all comments received during the initial 60-day scoping period was documented by the Park Service in a report titled “Public Scoping Comment Summary.” Comments from these meetings, as well from additional stakeholder and agency outreach meetings and subsequent internal planning workshops, were used to further refine the alternatives and identify the key topics to be addressed in the DEIS.

In preparing the DEIS, the NPS consulted with elected officials in San Francisco and Sausalito, representatives of the Port of San Francisco, the Fort Mason Center, the State Office of Historic Preservation, and numerous other stakeholders, among them neighborhood associations, ferry boat operators and Native American tribes. The NPS completed over a dozen working papers and reports for this DEIS, including a feasibility analysis, visitor flow survey report, wind-wave analysis, value analysis report, and transportation and circulation study.

During the public review and comment period, visits to alternative sites will be offered and a public meeting will be conducted in San Francisco. The date, time, and location of the meeting and site visits will be publicized through local and regional news media, via the project Web site (http://parkplanning.nps.gov/ALCAembarkation), and email to the park mailing list. Interested individuals, organizations, and agencies are invited to attend this meeting to discuss the DEIS with the planning team and/or provide written comments.

Copies of the DEIS (printed and electronic) will be distributed to congressional delegations, state and local elected officials, federal and state agencies, tribes, organizations, local businesses, public libraries, and the news media. Printed copies (in limited quantity) and CDs will be supplied in response to email, phone or mail requests. Printed copies will be available at public libraries in San Francisco and Sausalito.

How to Comment: Written comments may be transmitted electronically through the project Web site (noted above). If preferred, comments may be mailed to the General Superintendent, GGNRA, Attn: Alcatraz Ferry Embarkation DEIS, Fort Mason, Building 201, San Francisco, CA, 94123. Before including your address, phone number, email address, or other personal identifying information in your comment, you should be aware that your entire comment—including your personal identifying information—may be made publicly available at any time. While you can ask us in your comment to withhold your personal identifying information from public review, we cannot guarantee that we will be able to do so.

Decision Process: All comments received on the DEIS will be duly considered in preparing the Final EIS, which is expected to be available in late 2015. Availability of the Final EIS will be announced in the Federal Register, as well as through regional and local press media and park Web site postings. A Record of Decision will be prepared not sooner than 30 days after release of the Final EIS. As a delegated EIS, the NPS official responsible for approval of the project is the Regional Director, Pacific West Region. The official responsible for project implementation is the Superintendent, Golden Gate National Recreation Area.

Dated: January 29, 2015.
Christine S. Lehnertz,
Regional Director, Pacific West Region.

[FR Doc. 2015-03847 Filed 2-24-15; 8:45 am]

BILLING CODE 4312-FF-P